DEPARTMENT OF TRANSPORTATION

Federal Aviation Administration

14 CFR Parts 43 and 45

[Docket No. FAA-2000-8017; Notice No. 00-11]

RIN 2120-AH11

Safe Disposition of Life-Limited Aircraft Parts

AGENCY: Federal Aviation Administration (FAA), DOT.

ACTION: Notice of proposed rulemaking (NPRM).

SUMMARY: This action responds to the Wendall H. Ford Investment and Reform Act for the 21st Century by proposing that all persons who remove any life-limited aircraft part be required to have a method to prevent the installation of that part after it has reached its life limit. This action would reduce the risk of life-limited parts being used beyond their life limits. This proposal would also require that manufacturers of life-limited parts provide instructions on how to mark a part showing its life limit, when someone removing such a part requests it.

DATES: Comments must be received on or before January 30, 2001. Comments on the information collection requirements must be submitted on or before December 1, 2000.

ADDRESSES: Address your comments to the Docket Management System (DMS), U.S. Department of Transportation, Room Plaza Level 401, 400 Seventh Street, SW., Washington, DC 20590-0001. You must identify the docket number “FAA-2000-8017” at the beginning of your comments, and you should submit two copies of your comments.

You may also submit comments through the Internet to http://dms.dot.gov. You may review the public docket containing comments to these proposed regulations in person in the Dockets Office between 9:00 a.m. and 5:00 p.m., Monday through Friday, except Federal holidays. The Dockets Office is on the plaza level of the NASSIF Building at the Department of Transportation at the above address. Also, you may review public dockets on the Internet at http://dms.dot.gov.

FOR FURTHER INFORMATION CONTACT: Al Michaels, Flight Standards Service, AFS-300, Federal Aviation Administration, 800 Independence Avenue, SW., Washington, DC 20591; telephone: (202) 267-7501, facsimile (202) 267-5115, or e-mail: albert.michaels@faa.gov.

SUPPLEMENTARY INFORMATION:

Comments Invited

Interested persons are invited to participate in the making of the proposed action by submitting such written data, views, or arguments, as they may desire. Comments relating to the environmental, energy, federalism, or economic impact that might result from adopting the proposals in this document also are invited. Substantive comments should be accompanied by cost estimates. Comments must identify the regulatory docket or notice number and be submitted in duplicate to the Docket Management System address specified above.

All comments received, as well as a report summarizing each substantive public contact with FAA personnel concerning this proposed rulemaking, will be filed in the docket.

The Administrator will consider all comments received on or before the closing date before taking action on this proposed rulemaking. Comments filed late will be considered as far as possible without incurring expense or delay. The proposals in this document may be changed in light of the comments received.

Availability of Rulemaking Documents

You can get an electronic copy using the Internet by taking the following steps:

(1) Go to the search function of the Department of Transportation's electronic Docket Management System (DMS) web page (http://dms.dot.gov/search).

(2) On the search page type in the last four digits of the Docket number shown at the beginning of this notice. Click on “search.”

(3) On the next page, which contains the Docket summary information for the Docket you selected, click on the document number for the item you wish to view.

You can also get an electronic copy using the Internet through FAA's web page at http://www.faa.gov/avr/arm/nprm/nprm.htm or the Federal Register's web page at http://www.access.gpo.gov/su_docs/aces/aces140.html.

You can also get a copy by submitting a request to the Federal Aviation Administration, Office of Rulemaking, ARM-1, 800 Independence Avenue SW., Washington, DC 20591, or by calling (202) 267-9680. Make sure to identify the docket number and notice number of this rulemaking.

Background

The FAA has found life-limited parts that exceeded their life-limits installed on type-certificated products during accident investigations and routine surveillance. Although such installation of life-limited parts violates existing FAA regulations, concerns have arisen regarding the disposition of these life-limited parts when they have reached their life limits.

Concerns over the use of life-limited aircraft parts led Congress to pass a law requiring the safe disposition of these parts when they have reached their life limits. The Wendall H. Ford Investment and Reform Act for the 21st Century (Public Law 106-181), added section 44725 to Title 49, United States Code, as follows:

Sec. 44725. Life-Limited Aircraft Parts

(a) IN GENERAL—The Administrator of the Federal Aviation Administration shall conduct a rulemaking proceeding to require the safe disposition of life-limited parts removed from an aircraft. The rulemaking proceeding shall ensure that the disposition deter installation on an aircraft of a life-limited part that has reached or exceeded its life limits.

(b) SAFE DISPOSITION—For the purposes of this section, safe disposition includes any of the following methods:

(1) The part may be segregated under circumstances that preclude its installation on an aircraft.

(2) The part may be permanently marked to indicate its used life status.

(3) The part may be destroyed in any manner calculated to prevent reinstallation in an aircraft.

(4) The part may be marked, if practicable, to include the recordation of hours, cycles, or other airworthiness information. If the parts are marked with cycles or hours of usage, that information must be updated every time the part is removed from service or when the part is retired from service.

(5) Any other method approved by the Administrator.

(c) * * *

(d) PRIOR-REMOVED LIFE-LIMITED PARTS—No rule issued under subsection (a) shall require the marking of parts removed from aircraft before the effective date of the rules issued under subsection (a), nor shall any such rule forbid the installation of an otherwise airworthy life-limited part.

Existing regulations are not as specific as the legislation governing the safe disposition of life-limited parts. There are no requirements for persons to safely disposition life-limited parts that have reached their life limits. This proposal would require all life-limited parts to be controlled in a manner to prevent installation on a type-certificated product (See sec 21.1(b)) after they have reached their life limit. However, the regulations require that each registered owner or operator under § 91.417(a)(2)(ii) and each certificate holder under § 121.380(a)(2)(iii) or § 135.439(a)(2)(ii), maintain records showing “the current status of life-limited parts of each airframe, engine, propeller, rotor, and appliance.” This proposal would provide additional controls for life-limited parts that would reduce the risk of parts being installed in type-certificated products after reaching their life limits.

This statute requires the FAA to issue a rule ensuring the safe disposition of life-limited aircraft parts. Congress also provided civil penalties for violations of this statute.

Current Requirements

Existing regulations require specific markings be placed on all life-limited parts at the time of manufacture. This includes permanently marking the part with a part number (or equivalent) and a serial number (or equivalent). See 14 CFR 45.14.

The type design of an aircraft, aircraft engine, or propeller includes the Airworthiness Limitations section that describes life limits for parts installed on the product. See 14 CFR 21.31(c) and 14 CFR 25 appendix H 25.4.

In order for an aviation product to comply with its type design, the life-limited parts installed on it must fall within the acceptable ranges described in the Airworthiness Limitations section. For this reason, installation of a life-limited part after the mandatory replacement time has been reached would be a violation of the maintenance regulations. Section 43.13(b) requires that maintenance work be completed so that the product worked on “will be at least equal to its original or properly altered condition.* * *”

Persons who install parts do not always have adequate information to determine a part's current life status. In particular, documentation problems may mislead an installer concerning the actual useful life remaining for a life-limited part.

The purpose of this proposed rule is to provide for the data needs of a subsequent installer to prevent the installation of a previously removed life-limited part that has reached its life limit. This proposal would reduce the risk of life-limited parts being used beyond their life-limits.

Section-by-Section Discussion of the Proposals

Section 43.1 Applicability

The removal, storage, and disposal of parts is closely related to the maintenance of aircraft. We propose to amend the applicability of part 43.

Section 43.10 Disposition of Life-Limited Aircraft Parts

Part 43 would be amended by adding a new section to incorporate the new legislation. Paragraph (a) proposes definitions for “life-limited part” and “life status.”

“Life-limited part” would be defined to mean any part for which a mandatory replacement time is specified in the Airworthiness Limitations section of a type certificate holder's maintenance manual or Instructions for Continued Airworthiness.

“Life status” would be defined to mean the accumulated cycles, hours, or any other mandatory replacement time of a life-limited part.

Paragraph (b) proposes requirements for the safe disposition of any life-limited part that is removed from a type-certificated product (see § 21.1(b)) and has reached its life limit. Generally, a type-certificated product incorporates life-limited parts. The method used must prevent the part from being installed after it has reached its life limit. Generally, this is accomplished by ensuring that the life status of the part is readily available.

In accordance with the statute, this proposal would apply only to life-limited aircraft parts removed after the effective date of the final rule. Existing recordkeeping and storage regulations will continue to apply to the control of life-limited parts removed before the effective date of this rule.

This paragraph provides that each person removing a life-limited part from a type-certificated product must ensure that the part is controlled using one of the methods in paragraphs (b)(1) through (6) of this section. The person who removes the part need not be the same person who implements the requirements of paragraphs (b)(1) through (6). For example, an air carrier mechanic removing a part might not personally control the part in accordance with one of the methods described in paragraph (b) (1) through (6) of this section, but may give the part to the air carrier's material control department to disposition in accordance with its procedures manual. The air carrier's procedures must ensure the part can not be installed in a type-certificated product after it has reached its life limit.

The first method for controlling a life-limited part, in paragraph (b)(1), is to segregate it under circumstances that preclude its installation on a type-certificated product. These circumstances must include, at least, keeping a record of the serial number and current life status of the part, and ensuring the part is segregated from serviceable parts. In this way the parts retrieved from inventory would be new, or records would be available to indicate the life status of the part.

Paragraph (b)(2) provides that the part may be permanently and legibly marked, when practical, to indicate its life status. The life status must be updated each time the part is removed from service. We expect that permanent marking will be used mostly for parts that are permanently removed from service. If they are not permanently removed from service, this marking must be accomplished in accordance with the manufacturer's marking instructions, as required under proposed § 45.14. This will ensure the integrity of the part is maintained.

Paragraph (b)(3) provides that the part may be destroyed in any manner that prevents installation in a type-certificated product. Advisory Circular (AC) No. 21-38, Disposition of Unsalvageable Aircraft Parts and Materials, provides guidance for destruction of parts.

Paragraph (b)(4) proposes that the part may be marked, if practical, to include the life status. This marking must be accomplished in accordance with the manufacturer's marking instructions, as required under proposed § 45.14, to maintain the integrity of the part. When a part is marked with its life status and installed in a type-certificated product, the life status must be updated each time the part is removed from service. When the part is retired from service, it may be marked to indicate current life status, or it may be destroyed, permanently marked, segregated from serviceable parts, or treated in any other manner approved by the Administrator.

The statute does not provide for tagging any life-limited parts, but does provide that FAA may approve methods other then those prescribed in proposed paragraph (b)(1) through (4). The FAA recognizes that there are cases when marking is impractical. Size, material, or geometry might make it impractical to mark the part. Proposed paragraph (b)(5) provides that if it is impractical to mark the life-limited part, a tag may be attached to the part to record the life status. The tag with current life status must be updated each time the part is removed from service. Marking is preferred over tagging because marking is integral with the part and more likely to remain on the part, therefore, tagging would only be permitted when marking is impractical. The manufacturer may provide assistance in determining whether a part may be marked or tagged. Life status information must be updated each time the part is removed from service.

Paragraph (b)(6) provides that any other method approved by the Administrator may be used. For instance, if an air carrier or repair station currently has an approved method for handling life-limited parts that provides at least the same level of safety as (b)(1) through (b)(5), that method could be acceptable under this proposed rule.

Paragraph (c) stipulates that each person removing a life-limited part from segregation, other than for immediate installation, must ensure that the part is controlled using one of the methods in paragraphs (b)(2) through (6).

Section 45.14 Identification and disposition of critical components

Section 45.14 would be amended by adding language requiring each person producing life-limited parts to provide detailed marking instructions, when requested. For example, the producer would state what materials or methods may be used to mark the parts, and where the mark should be located on the part, to avoid adversely affecting the part. The producer would also state whether the part cannot practically be marked without compromising its integrity.

Paperwork Reduction Act

This proposal contains the following new information collection requirements. As required by the Paperwork Reduction Act of 1995 (44 U.S.C. 3507(d)), the Department of Transportation has submitted the information requirements associated with this proposal to the Office of Management and Budget for its review.

Title: Safe Disposition of Life-Limited Aircraft Parts.

Summary: This proposal requires the disposition of life-limited parts. This may include marking or tagging the parts with their life status. This information must be updated each time the part is removed from service or when the part has reached its life-limit and is retired from service. Each person removing a life-limited part from a type-certificated product must ensure that the disposition of the part is controlled as required. The person removing the part need not be the same person implementing the requirements of the proposal.

Use of: This rule would support the information needs of a subsequent installer in preventing the installation into a type-certificated product of a part that has reached its life limit.

Respondents (including number of): The likely respondents to this proposed information requirement are persons responsible for removing and disposing of life-limited parts. Of about 5,000 FAA certificated repair stations, the FAA believes about 1,500 would perform most of these procedures. Although some of these procedures may be carried out on behalf of air carriers and owner/operators in general aviation, the FAA believes that most of the procedures will be performed by a certificated repair station.

Frequency: The FAA estimates each of the 1,500 certified repair stations would perform 300 such procedures as an annual average. Each of the remaining 3,500 would average 50 procedures annually. Thus, the annual frequency of information requirements is 625,000 procedures.

Annual Burden Estimate: This proposal would result in an annual recordkeeping and reporting burden as follows:

(1) there would be 625,000 removal and disposal procedures annually;

(2) the recordkeeping and recording part of each procedure would take 5 minutes; and

(3) the average fully burdened labor cost of the individuals performing the procedures is about $50 per hour.

Thus, the total annual estimated burden of Public Law 106-181, which directs this rulemaking, would be about $2,600,000, borne by a total of 5,000 respondents.

The agency is soliciting comments to—

(1) evaluate whether the proposed information requirement is necessary for the proper performance of the functions of the agency, including whether the information will have practical utility;

(2) evaluate the accuracy of the agency's estimate of the burden;

(3) enhance the quality, utility, and clarity of the information to be collected; and

(4) minimize the burden of the collection of information on those who are to respond, including through the use of appropriate automated, electronic, mechanical, or other technological collection techniques or other forms of information technology.

According to the regulations implementing the Paperwork Reduction Act of 1995, (5 CFR 1320.8(b)(2)(vi)), an agency may not conduct or sponsor, a person is not required to respond to a collection of information unless it displays a currently valid OMB control number. The OMB control number for this information collection will be published in the Federal Register, after the Office of Management and Budget approves it.

International Compatibility

In keeping with U.S. obligations under the Convention on International Civil Aviation, it is FAA policy to comply with International Civil Aviation Organization (ICAO) Standards and Recommended Practices to the maximum extent practicable. The FAA determined that there are no ICAO Standards and Recommended Practices that correspond to these proposed regulations.

Economic Evaluation

Changes to Federal regulations must undergo several economic analyses. First, Executive Order 12866 directs that each Federal agency shall propose or adopt a regulation only upon a reasoned determination that the benefits of the intended regulation justify its costs. Second, the Regulatory Flexibility Act of 1980 requires agencies to analyze the economic impact of regulatory changes on small entities. Third, the Trade Agreements Act (19 U.S.C. section 2531-2533) prohibits agencies from setting standards that create unnecessary obstacles to the foreign commerce of the United States. In developing U.S. standards, this Trade Act requires agencies to consider international standards and, where appropriate, that they be the basis of U.S. standards. And fourth, the Unfunded Mandates Reform Act of 1995 requires agencies to prepare a written assessment of the costs, benefits and other effects of proposed or final rules that include a Federal mandate likely to result in the expenditure by State, local or tribal governments, in the aggregate, or by the private sector, of $100 million or more, in any one year (adjusted for inflation).

However, for regulations with an expected minimal impact the above-specified analyses are not required. If it is determined that the expected impact is so minimal that the proposal does not warrant a full evaluation, a statement to that effect and the basis for it is included in the evaluation.

Consistent with Department of Transportation policies and procedures for simplification, analysis, and review of regulations, this proposal is deemed to have a minimal impact, and does not warrant a full evaluation. The FAA requests comments with supporting justification regarding the FAA determination of minimal impact.

Expected Benefits

This proposed rule would decrease the possibility of installation into a type-certificated product of life-limited parts that have reached their life-limits. In general current industry good practices already deter such installation. These practices generally reflect the direction and advice of current FAA regulatory and advisory material. See 14 CFR parts 43, 45, 91, 121 and 135, and FAA Advisory Circulars Nos. 43-9C and 20-62D. Thus, the additional benefits expected to result from the broadening and strengthening of good business practices directed by this legislation are small.

Expected Costs

It is the FAA's intent that this rulemaking would specify only the requirements necessary to bring industry into compliance with Public Law 106-181. Thus, the FAA expects that additional compliance costs would be attributable to the legislation and not to the rule.

While no existing FAA rule is as specific as this proposed rule, its requirements generally reflect industry good practices. The implementation of the legislation directing this proposed rule would add to existing requirements, and consequently to costs, by requiring that each person removing a life-limited part from a type-certificated product must control the disposition of that part by marking, tagging, segregating, destroying, or any other approved method that ensures that no life-limited part that has reached its life limit will be installed into a type-certificated product.

The FAA believes that the 5,000 FAA certificated repair stations will conduct almost all these procedures. Additional costs are estimated to average about $1,250 annually for each of the 1,500 FAA certificated repair stations most involved with the disposition of life-limited parts. The FAA assumes these repair stations annually perform an average of 300 procedures involving the safe disposition of life-limited parts. The FAA assumes the remaining 3,500 repair stations average 50 such procedures annually. Additional annual costs for these repair stations is expected to be about $200.

Regulatory Flexibility Act

The Regulatory Flexibility Act of 1980 (5 U.S.C. 601 et seq.) establishes “as a principle of regulatory issuance that agencies shall endeavor, consistent with the objective of the rule and of applicable statutes, to fit regulatory and informational requirements to the scale of the business, organizations, and governmental jurisdictions subject to regulation.” To achieve that principle, the Act requires agencies to solicit and consider flexible regulatory proposals and to explain the rationale for their actions. The Act covers a wide-range of small entities, including small businesses, not-for-profit organizations and small governmental jurisdictions.

Agencies must perform a review to determine whether a proposed or final rule will have a significant economic impact on a substantial number of small entities. If the determination is that it will, the agency must prepare a regulatory flexibility analysis as described in the Act.

However, if an agency determines that a proposed or final rule is not expected to have a significant economic impact on a substantial number of small entities, § 605(b) of the 1980 act provides that the head of the agency may so certify and a regulatory flexibility analysis is not required. The certification must include a statement providing the factual basis for this determination, and the reasoning should be clear.

Because this proposed rule imposes no economic effects, the FAA certifies that it would not have a significant impact on a substantial number of small entities.

Trade Impact Assessment

The Trade Agreement Act of 1979 prohibits Federal agencies from engaging in any standards or related activities that create unnecessary obstacles to the foreign commerce of the United States. Legitimate domestic objectives, such as safety, are not considered unnecessary obstacles. The statute also requires consideration of international standards and where appropriate, that they be the basis for U.S. standards. In addition, consistent with the Administration's belief in the general superiority and desirability of free trade, it is the policy of the Administration to remove or diminish to the extent feasible, barriers to international trade, including both barriers affecting the export of American goods and services to foreign countries and barriers affecting the import of foreign goods and services into the United States.

In accordance with the above statute and policy, the FAA has assessed the potential effect of this proposed document and has determined that it would impose the same costs on domestic and international entities and thus has a neutral trade impact.

Unfunded Mandates Reform Act

The Unfunded Mandates Reform Act of 1995, enacted as Public Law 104-4 on March 22, 1995, is intended, among other things, to curb the practice of imposing unfunded Federal mandates on State, local, and tribal governments. Title II of the Act requires each Federal agency to prepare a written statement assessing the effects of any Federal mandate in a proposed or final agency rule that may result in a $100 million or more expenditure (adjusted annually for inflation) in any one year by State, local, and tribal governments, in the aggregate, or by the private sector; such a mandate is deemed to be a “significant regulatory action.”

This proposal does not contain such a mandate. Therefore, the requirements of Title II of the Unfunded Mandates Reform Act of 1995 do not apply.

Regulations Affecting Interstate Aviation in Alaska

Section 1205 of the FAA Reauthorization Act of 1996 (110 Stat. 3213) requires the Administrator, when modifying regulations in title 14 of the CFR in a manner affecting interstate aviation in Alaska, to consider the extent to which Alaska is not served by transportation modes other than aviation, and to establish such regulatory distinctions as he or she considers appropriate. Because this proposed rule, if adopted, would only apply to the subsequent use of these life-limited aircraft parts, it would not affect interstate aviation in Alaska. The FAA, therefore, specifically requests comments on whether there is justification for applying the proposed rule differently in interstate operations in Alaska.

Executive Order 13132, Federalism

The FAA has analyzed this proposed rule under the principles and criteria of Executive Order 13132, Federalism. We determined that this action would not have a substantial direct effect on the States, on the relationship between the national Government and the States, or on the distribution of power and responsibilities among the various levels of government. Therefore, we determined that this notice of proposed rulemaking would not have federalism implications.

Environmental Analysis

FAA Order 1050.1D defines FAA actions that may be categorically excluded from preparation of a National Environmental Policy Act (NEPA) environmental impact statement. In accordance with FAA Order 1050.1D, appendix 4, paragraph 4(j), this proposed rulemaking action qualifies for a categorical exclusion.

Energy Impact

The energy impact of the notice has been assessed in accordance with the Energy Policy and Conservation Act (EPCA) Public Law 94-163, as amended (42 U.S.C. 6362) and FAA Order 1053.1. It has been determined that the notice is not a major regulatory action under the provisions of the EPCA.

List of Subjects

14 CFR Part 43

Aircraft, Aviation safety, Life-limited parts, Reporting and recordkeeping requirements.

14 CFR Part 45

Aircraft, Exports, Signs and symbols.

The Proposed Amendments

In consideration of the foregoing, the Federal Aviation Administration proposes to amend Chapter I of Title 14, Code of Federal Regulations, as follows:

PART 43—MAINTENANCE, PREVENTIVE MAINTENANCE, REBUILDING, AND ALTERATION

1. Amend the authority citation for part 43 to read as follows:

Authority: 49 U.S.C. 106(g), 40113, 44701, 44703, 44705, 44707, 44711, 44713, 44717, 44725.

2. Add § 43.1(c) to read as follows:

§ 43.1 Applicability.

* * * * *

(c) This part applies to each person who removes, segregates, or dispositions a life-limited part from a type-certificated product as provided in § 43.10.

3. Add § 43.10 to read as follows:

§ 43.10 Disposition of life-limited aircraft parts.

(a) For the purposes of this section the following definitions apply.

Life-limited part means any part for which a mandatory replacement time is specified in the Airworthiness Limitations section of a type certificate holder's maintenance manual or Instructions for Continued Airworthiness.

Life status means the accumulated cycles, hours, or any other mandatory replacement time of a life-limited part.

(b) After [the effective date of the final rule], each person who removes a life-limited part from a type-certificated product must ensure that the part is controlled using one of the methods in paragraphs (b)(1) through (6) of this section. The method must prevent the part from being installed after it has reached its life limit. Approved methods include:

(1) The part may be segregated under circumstances that preclude its installation on a type-certificated product. These circumstances must include, at least—

(i) Keeping a record of the serial number and current life status of the part, and

(ii) Ensuring the part is stored separately from serviceable parts.

(2) The part may be permanently and legibly marked, if practical, to indicate its life status. The life status must be updated each time the part is removed from service. Unless the part is permanently removed from service, this marking must be accomplished in accordance with the manufacturer's marking instructions, in order to maintain the integrity of the part, as required under § 45.14 of this chapter.

(3) The part may be destroyed in any manner that prevents installation in a type-certificated product.

(4) The part may be marked, if practical, to include the life status. The life status must be updated each time the part is removed from service. This marking must be accomplished in accordance with the pertinent manufacturer's marking instructions, in order to maintain the integrity of the part, as required under § 45.14 of this chapter.

(5) If it is impractical to mark the part, a tag may be attached to the part to include the life status. The tag must be updated to reflect life status each time the part is removed from service.

(6) Any other method approved by the Administrator.

(c) Each person who removes a life-limited part from segregation as identified in paragraph (b)(1) of this section, other than for immediate installation on a type-certificated product, must ensure that the part is controlled using one of the methods in paragraphs (b)(2) through (6).

PART 45—IDENTIFICATION AND REGISTRATION MARKING

4. The authority citation for part 45 is amended to read as follows:

Authority: 49 U.S.C. 106(g), 40103, 44109, 40113-40114, 44101-44105, 44107-44108, 44110-44111, 44504, 44701, 44708-44709, 44711-44713, 44725, 45302-45303, 46104, 46304, 46306, 47122.

5. Revise § 45.14 to read as follows:

§ 45.14 Identification and disposition of critical components

Each person who produces a part for which a replacement time, inspection interval, or related procedure is specified in the Airworthiness Limitations section of a manufacturer's maintenance manual or Instructions for Continued Airworthiness must permanently and legibly mark that component with a part number (or equivalent) and a serial number (or equivalent). When requested by a person required to comply with § 43.10 of this chapter, each person who produces a life-limited part must provide detailed marking instructions, or must state that the part cannot practicably be marked without compromising its integrity.

Issued in Washington, DC, on September 26, 2000.
L. Nicholas Lacey,
Director, Flight Standards Service.

[FR Doc. 00-25045 Filed 9-29-00; 8:45 am]

BILLING CODE 4910-13-P